DEPARTMENT OF THE INTERIOR

National Park Service

Notice of Designation of Potential Wilderness as Wilderness, Great Sand Dunes National Park and Preserve, CO

AGENCY: National Park Service, Department of the Interior.

SUMMARY: The Great Sand Dunes Wilderness within Great Sand Dunes National Monument was designated by Public Law 94-567, dated Oct 20th, 1976. According to the act the wilderness was to comprise 33,450 acres with a potential wilderness addition of 670 acres. Public Law 95-625, dated Nov 10th, 1978 added 1,109 acres to Great Sand Dunes National Monument and Public Law 96-87, dated Oct 12th, 1979, amended this addition to 1,900 acres and further added that “The Secretary shall designate the lands described by this paragraph for management in accordance with the adjacent lands within the monument * * *.” This amendment, therefore, has the effect of authorizing inclusion of the 1,900 acres in the wilderness area. At the time the Acts were approved the added lands had non-conforming uses prohibited by the Wilderness Act of 1964 and so were designated as potential wilderness until such time as the non-conforming uses were eliminated.

The National Park Service depicted the wilderness and potential wilderness additions on maps entitled “Great Sand Dunes Wilderness, Great Sand Dunes National Monument, Colorado”, numbered 140-20,006-D and dated January, 1980. In May, 1980, the NPS published the legal description of the wilderness and potential wilderness additions. The maps and legal description are on file at the headquarters of Great Sand Dunes National Park and Preserve, 11500 Highway 150, Mosca, CO 81144.

At the time of the establishment of the wilderness area two of the potential wilderness units had been purchased by the government but had non-conforming uses which precluded them from being included in the original wilderness declaration. One was occupied by the previous owner under a “Life Estate Agreement” while the other was occupied under a “Use and Occupancy” agreement. The former expired upon the death of the occupant in 1995 while the latter's term expired in 1999. Subsequently each unit reverted to the exclusive control of the government and the non-conforming uses were eliminated. Additionally, improvements existing on one of the units were removed and the area restored to a natural state.

The other two units were privately held, accessible by motor vehicle, and with potential further development. One 40 acre tract was purchased in 2000 and the remaining lands purchased in 2004. Subsequently, the government holds all rights and privileges to the land including mineral rights (which never passed from the government in the first place).

Note that Public Law 106-530, dated Nov 22, 2000, abolished Great Sand Dunes National Monument and instead established Great Sand Dunes National Park and Preserve. The potential wilderness lands hereby designated as wilderness total 2,505 acres more or less and are described as:

Sixth Principal Meridian

T. 25 S., R. 73 W.,

Section 31, surveyed, that portion of Segregated Tract 39 in the N½ according to Government Independent Resurvey approved October 7, 1943;

Section 32, surveyed, that portion of Segregated Tract 39 in the W½ NW¼ NE¼, N½ NW¼, and W½ SW¼ NW¼ according to Government Independent Resurvey approved October 7, 1943.

T. 26 S., R. 73 W.,

Section 11, surveyed, those portions of E½ lying northwesterly beyond 50 feet of the centerline of that portion of the Medano Pass Primitive Road northeasterly of Little Medano Road, northwesterly of the center of that portion of the intermittent stream leading into Medano Creek southwesterly of said Little Medano Road and northerly of the center of that portion of Medano Creek below the confluence thereof with said intermittent stream and excluding in said E½ a strip of land 50 feet on each side of the centerline of said Little Medano Road;

Section 14, surveyed, that portion of E½ W½ lying west of the center of Medano Creek;

Section 23, surveyed, that portion of W½ NW¼ lying west of the center of Medano Creek;

New Mexico Principal Meridian

That southeasterly portion of the former Luis Maria Baca No. 4 Grant lying within the authorized boundaries of the former Great Sand Dunes National Monument in Saguache County.

FOR FURTHER INFORMATION CONTACT: Jim Bowman, Chief Ranger, Great Sand Dunes National Park and Preserve, 11500 Highway 150, Mosca, CO 81146, (719) 378-6321, jim_bowman@nps.gov.

Dated: February 4, 2009.
Michael D. Snyder,
Director Intermountain Region, National Park Service.

[FR Doc. E9-7936 Filed 4-7-09; 8:45 am]

BILLING CODE 4312-CL-P